FEDERAL COMMUNICATIONS COMMISSION

Sunshine Act Meeting; Deletion of Agenda Items From March 21, 2012 Open Meeting

March 20, 2012.

The following items have been deleted from the list of Agenda items scheduled for consideration at the Wednesday, March 21, 2012, Open Meeting and previously listed in the Commission's Notice of March 14, 2012. These items have been adopted by the Commission.

Item Nos. | Bureau | Subject
1 | Media | Title: Revision of the Commission's Program Access Rules; News Corporation and The DIRECTV Group, Inc., Transferors, and Liberty Media Corporation, Transferee, for Authority to Transfer Control (MB Docket No. 07-18) and Applications for Consent to the Assignment and/or Transfer of Control of Licenses, Adelphia Communications Corporation (and subsidiaries, debtors-in-possession), Assignors, to Time Warner Cable Inc. (subsidiaries), Assignees, et al. (MB Docket No. 05-192)
|  | Summary: The Commission will consider a Notice of Proposed Rulemaking exploring whether to retain, sunset, or relax the exclusive contract prohibition of the program access rules and whether to revise the program access rules to better address alleged violations.
2 | Media | Title: Creation of a Low Power Radio Service (MM Docket No. 99-25) and Amendment of Service and Eligibility Rules for FM Broadcast Translator Stations (MB Docket No. 07-172, RM-11338)
|  | Summary: The Commission will consider a Fourth Report and Order and Third Order on Reconsideration to implement a market-specific FM translator processing scheme, adopt application caps to prevent trafficking, and modify policies to expand opportunities to rebroadcast AM stations on FM translators.
3 | Media | Title: Creation of a Low Power Radio Service (MM Docket No. 99-25)
|  | Summary: The Commission will consider a Fifth Report and Order, Fourth Further Notice of Proposed Rulemaking and Fourth Order on Reconsideration regarding proposals to implement the Local Community Radio Act and to strengthen the LPFM service, including second adjacent channel waiver procedures, interference remediation requirements, and modification of eligibility, ownership, and selection standards.

Federal Communications Commission.
Marlene H. Dortch,
Secretary, Office of the Secretary, Office of Managing Director.

[FR Doc. 2012-7265 Filed 3-21-12; 4:15 pm]

BILLING CODE 6712-01-P